FEDERAL COMMUNICATIONS COMMISSION

[WC Docket No. 05-25 and RM-10593; DA 14-1706]

Special Access Data Collection; Filing Deadline Extended

AGENCY: Federal Communications Commission.

ACTION: Notice.

SUMMARY: In this document, the Wireline Competition Bureau (Bureau) released an order extending the deadline for responding to the data collection in the Commission's special access proceeding. The extension provides more time for respondents to navigate the procedures for successfully loading the database container which is necessary for respondents to provide much of the numerical-type data sought, e.g., facilities and billing information. In this Order, the Bureau also grants FairPoint's Communications Inc.'s request for limited waiver to the extent consistent with the Order.

DATES: The deadline for responding to the collection for large businesses with more than 1,500 employees is January 29, 2015 and for small businesses with 1,500 or fewer employees is February 27, 2015. The deadline for covered entities required to certify they are not a Provider, Purchaser, or entity providing Best Efforts Business Broadband Internet Access Service is December 15, 2014.

ADDRESSES: Federal Communications Commission, 445 12th Street SW., Washington, DC 20554.

FOR FURTHER INFORMATION CONTACT: Christopher Koves, Pricing Policy Division, Wireline Competition Bureau, 202-418-8209 or Christopher.Koves@fcc.gov.

SUPPLEMENTARY INFORMATION: This is a summary of the Commission's Order, WC Docket No. 05-25, RM-10593, DA 14-1706, released November 26, 2014. This document does not contain information collections(s) subject to the Paperwork Act of 1995 (PRA), Public Law 104-13. In addition, therefore, it does not contain any new or modified “information collection burden[s] for small business concerns with fewer than 25 employees,” pursuant to the Small Business Paperwork Relief Act of 2002. The full text of this document may be downloaded at the following Internet address: https://apps.fcc.gov/edocs_public/attachmatch/DA-14-1706A1.docx. The complete text may be purchased from Best Copy and Printing, Inc., 445 12th Street SW., Room CY-B402, Washington, DC 20554. To request alternative formats for persons with disabilities (e.g. accessible format documents, sign language, interpreters, CARTS, etc.), send an email to fcc504@fcc.gov or call the Commission's Consumer and Governmental Affairs Bureau at (202) 418-0530 or (202) 418-0432 (TTY).

I. Background

On November 26, 2014, the Commission's Wireline Competition Bureau (Bureau) released an order extending the deadline for responding to the mandatory, one-time data collection in the Commission's special access proceeding. The Bureau extended the deadline for responding because of delays in the release of a database container to the public, which is necessary for filers to respond to the collection. Accordingly, for larger businesses with more than 1,500 employees required to provide data and information, the deadline is extended 45 days to January 29, 2015. Other respondents with 1,500 or fewer employees are considered small for purposes of the collection and must file their responses by February 27, 2015. For those entities not providing data and information in response to the collection but that are otherwise required to certify that they are not a covered Provider, Purchaser or an entity that provides Best Efforts Business Broadband Internet Access Services, the filing deadline remains December 15, 2014 regardless of the entity's size.

The Commission will use the data obtained from the collection for an analysis of the special access market as it considers reforming the pricing rules applicable to incumbent local exchange carriers that are subject to price cap regulation. For more information about the collection and the underlying rulemaking proceeding, see the Commission's Web site, http://www.fcc.gov/encyclopedia/special-access-data-collection-overview-0.

Pamela Arluk,
Acting Chief, Pricing Policy Division, Federal Communications Commission.

[FR Doc. 2014-29298 Filed 12-12-14; 8:45 am]

BILLING CODE 6712-01-P